DEPARTMENT OF TRANSPORTATION

Office of the Secretary

49 CFR Part 1

[Docket No. OST-2002-6189]

RIN 9991-AA24

Organization and Delegation of the Powers and Duties to the Commandant, United States Coast Guard

AGENCY: Office of the Secretary, DOT.

ACTION: Final rule.

SUMMARY: The Secretary of Transportation delegates to the Commandant, United States Coast Guard, the authority contained in Section 5001(c)(1)(B) of the Oil Pollution Act of 1990 (OPA 90).

EFFECTIVE DATE: March 29, 2002.

FOR FURTHER INFORMATION CONTACT: Lieutenant Michael Pittman (G-MOR-1), (202) 267-6921, United States Coast Guard, 2100 Second Street, SW., Washington, DC 20593.

SUPPLEMENTARY INFORMATION: This rule amends 49 CFR 1.46, by adding a new paragraph (uuu) to reflect the delegation of the Secretary's authority under Section 5001(c)(1)(B) of the Oil Pollution Act of 1990 (OPA 90), (33 U.S.C. 2731). This will allow the Commandant, United States Coast Guard to appoint representatives to the Advisory Board of the Prince William Sound Spill Recovery Institute as specified in the above law. This rule is published as a final rule and is effective on the date of publication. It relates to departmental management, organization, procedure, and practice. For this reason, The Secretary, for good cause, finds, under 5 U.S.C. 553(b) and 5 U.S.C. 553(d)(3), that notice, and the opportunity for public comment before the rule are unnecessary and that the rule should be made effective in less than 30 days after publication in the Federal Register.

List of Subjects in 49 CFR Part 1

Authority delegations (Government agencies), Organization and functions (Government agencies).

In consideration of the foregoing, Part 1 of Title 49, Code of Federal Regulations, is amended as follows:

PART 1—[AMENDED]

1. The authority citation for Part 1 continues to read as follows:

Authority: 49 U.S.C. 322; Pub. L. 101-552, 28 U.S.C. 2672, 31 U.S.C. 3711(a)(2).

2. Section 1.46 is amended by adding the following paragraph (uuu) to read as follows:

§ 1.46 Delegations to Commandant of the Coast Guard.

* * * * *

(uuu) Carry out the functions and responsibilities and exercise the authorities vested in the Secretary by Section 5001(c)(1)(B) of the Oil Pollution Act of 1990 (OPA 90), 33 U.S.C. 2731, pertaining to appointment authority for a representative to the Advisory Board of the Prince William Sound Spill Recovery Institute.

Issued at Washington, DC this 22nd day of March, 2002.
Norman Mineta,
Secretary of Transportation.

[FR Doc. 02-7714 Filed 3-28-02; 8:45 am]

BILLING CODE 4910-62-P